DEPARTMENT OF ENERGY

Notice of Intent To Prepare a Supplement to the Stockpile Stewardship and Management Programmatic Environmental Impact Statement—Complex 2030

AGENCY: National Nuclear Security Administration, Department of Energy.

ACTION: Notice of intent.

SUMMARY: The National Nuclear Security Administration (NNSA), an agency within the U.S. Department of Energy (DOE or Department), announces its intent to prepare a Supplement to the Stockpile Stewardship and Management Programmatic Environmental Impact Statement—Complex 2030 (Complex 2030 SEIS or SEIS, DOE/EIS-0236-S4), pursuant to the National Environmental Policy Act (NEPA) of 1969 (42 U.S.C. 4321 et seq.), the Council on Environmental Quality's (CEQ's) and DOE's regulations implementing NEPA (40 CFR parts 1500-1508 and 10 CFR part 1021, respectively). The SEIS will analyze the environmental impacts from the continued transformation of the United States' nuclear weapons complex by implementing NNSA's vision of the complex as it would exist in 2030, which the Department refers to as Complex 2030, as well as alternatives. Since the end of the Cold War, there continue to be significant changes in the requirements for the nation's nuclear arsenal, including reductions in the number of nuclear weapons. To fulfill its responsibilities for certifying the safety and reliability of nuclear weapons without underground testing, DOE proposed and implemented the Stockpile Stewardship and Management (SSM) Program in the 1990s. Stockpile Stewardship includes activities required to maintain a high level of confidence in the safety and reliability of nuclear weapons in the absence of underground testing, and in the capability of the United States to resume nuclear testing if directed by the President. Stockpile Management activities include dismantlement, maintenance, evaluation, repair, and replacement of weapons and their components in the existing stockpile.

NNSA's proposed action is to continue currently planned modernization activities and select a site for a consolidated plutonium center for long-term research and development, surveillance, and pit ¹ manufacturing; consolidate special nuclear materials throughout the complex; consolidate, relocate, or eliminate duplicative facilities and programs and improve operating efficiencies; identify one or more sites for conducting NNSA flight test operations; and accelerate nuclear weapons dismantlement activities. This Notice of Intent (NOI), the initial step in the NEPA process, informs the public of NNSA's intention to prepare the Complex 2030 SEIS, announces the schedule for public scoping meetings, and solicits public input. Following the scoping period, NNSA will prepare and issue a draft of the Complex 2030 SEIS that will describe the Complex 2030 proposal, the alternatives analyzed, and potential impacts of the proposal and the alternatives.

¹ A pit is the central core of a nuclear weapon typically containing plutonium-239 that undergoes fission when compressed by high explosives.

This NOI also announces that NNSA has cancelled the previously planned Supplemental Programmatic Environmental Impact Statement on Stockpile Stewardship and Management for a Modern Pit Facility (DOE/EIS-0236-S2).

DATES: NNSA invites comments on the scope of the Complex 2030 SEIS. The public scoping period starts with the publication of this NOI in the Federal Register and will continue through January 17, 2006. Scoping comments received after this date will be considered to the extent practicable. NNSA will hold public scoping meetings to discuss issues and receive oral and written comments on the scope of the Complex 2030 SEIS. The locations, dates, and times for these public scoping meetings are listed below and will be announced by additional appropriate means. NNSA requests federal agencies that desire to be designated as cooperating agencies on the SEIS to contact NNSA's Office of Transformation at the address listed under ADDRESSES by the end of the scoping period.

North Augusta, South Carolina, North Augusta Community Center, 495 Brookside Avenue. November 9, 2006, 11 a.m.—3 p.m., 6 p.m.—10 p.m.

Oak Ridge, Tennessee, Oak Ridge City Center Club Room, 333 Main Street. November 13, 2006, 11 a.m.—3 p.m., 6 p.m.—10 p.m.

Amarillo, Texas, Amarillo Globe-News Center, Education Room, 401 S. Buchanan. November 15, 2006, 11 a.m.—3 p.m., 6 p.m.—10 p.m.

Las Vegas, Nevada, Cashman Center, 850 Las Vegas Boulevard North (at Washington). November 28, 2006. 11 a.m.—3 p.m., 6 p.m.—10 p.m.

Tonopah, Nevada, Tonopah Convention Center, 301 Brougher Avenue. November 29, 2006, 6 p.m.—10 p.m.

Socorro, New Mexico, Macey Center (at New Mexico Tech), 801 Leroy Place. December 4, 2006, 6 p.m.—10 p.m.

Albuquerque, New Mexico, Albuquerque Convention Center, 401 2nd St. NW. December 5, 2006, 11 a.m.—3 p.m., 6 p.m.—10 p.m.

Los Alamos, New Mexico, Mesa Public Library, 2400 Central Avenue. December 6, 2006, 10:30 a.m.—2:30 p.m.

Santa Fe, New Mexico, Genoveva Chavez Community Center, 3221 Rodeo Road. December 6, 2006, 6 p.m.—10 p.m.

Livermore, California, Robert Livermore Community Center, 4444 East Avenue. December 12, 2006, 11 a.m.—3 p.m.

Tracy, California, Tracy Community Center, 950 East Street. December 12, 2006, 6 p.m.—10 p.m.

U.S. Department of Energy, 1000 Independence Avenue, SW., Room 1E-245, Washington, DC. December 14, 2006, 1 p.m.—5 p.m.

NNSA officials will be available to informally discuss the Complex 2030 proposal during the first hour. Following this, NNSA intends to hold a plenary session at each scoping meeting in which officials will explain the Complex 2030 proposal and the SEIS, including preliminary alternatives. The meetings will provide the public with an opportunity to provide oral and written comments to NNSA on the scope of the SEIS. Input from the scoping meetings will assist NNSA in preparing the draft SEIS.

ADDRESSES: General questions concerning the NOI can be asked by calling toll-free 1-800-832-0885 (ext. 63519), e-mailing to Complex2030@nnsa.doe.gov, or writing to Theodore A. Wyka, Complex 2030 SEIS Document Manager, Office of Transformation, U.S. Department of Energy, NA-10.1, 1000 Independence Avenue, SW., Washington, DC 20585. Written comments on the scope of the SEIS or requests to be placed on the document distribution list can be sent to the Complex 2030 SEIS Document Manager. Additional information regarding Complex 2030 is available on Complex2030PEIS.com.

For general information on the DOE NEPA process, please contact Carol M. Borgstrom, Director, Office of NEPA Policy and Compliance, U.S. Department of Energy, 1000 Independence Avenue, SW., Washington, DC 20585, (202) 586-4600 or 1-800-472-2756. Additional information regarding DOE NEPA activities and access to many DOE NEPA documents are available on the Internet through the DOE NEPA Web site at http://www.eh.doe.gov/nepa.

SUPPLEMENTARY INFORMATION:

Background: The early days of the nuclear weapons complex after World War II saw a rapid build-up of capability and capacity to support the growth of the stockpile to fight the Cold War. By the 1960s, the United States had built a large stockpile of nuclear weapons, and the nation began to focus on improving, rather than expanding, the stockpile. NNSA's predecessor agencies began to consolidate operations and close some production facilities. In the 1980s, facilities were shut down across the nuclear weapons complex, including certain facilities at the Savannah River Site in South Carolina; the Oak Ridge Reservation in Tennessee; the Rocky Flats Plant in Colorado; the Fernald Site in Ohio; the Hanford Reservation in Washington; and elsewhere.

Prior DOE NEPA Reviews: DOE completed a Nuclear Weapons Complex Reconfiguration (“Complex-21”) Study in January 1991, which identified significant cost savings that could be achieved by further downsizing of the nuclear weapons complex.

DOE then initiated a programmatic EIS (Reconfiguration PEIS) examining alternatives for reconfiguring the nuclear weapons complex. However, in December 1991, the Department decided to separate proposals for transforming non-nuclear production from the Reconfiguration PEIS because (1) proposals to consolidate non-nuclear facilities might not require preparation of an EIS, and (2) proposals and decisions regarding transformation of non-nuclear production would neither significantly affect nor be affected by proposals and decisions regarding transformation of nuclear production. On January 27, 1992, the Department issued an NOI (57 FR 3046) to prepare an environmental assessment (DOE/EA-0792) for the consolidation of non-nuclear production activities within the nuclear weapons complex. Following the collapse of the Soviet Union, the United States reduced the budget for the nuclear weapons program. President George H. W. Bush imposed a moratorium in 1992 on underground nuclear testing.

On September 14, 1993, DOE published a Finding of No Significant Impact (FONSI) regarding its proposal to consolidate non-nuclear component production (58 FR 48043). This proposal included termination of non-nuclear production missions at the Mound Plant in Ohio, the Pinellas Plant in Florida, and the Rocky Flats Plant in Colorado. The electrical and mechanical manufacturing functions were consolidated at the Kansas City Plant. Detonators and beryllium capabilities for technology and pit support were consolidated at Los Alamos National Laboratory (LANL) in New Mexico, and neutron generator production was relocated to Sandia National Laboratories in New Mexico.

In October 1993, President William J. Clinton issued Presidential Decision Directive 15 (PDD-15), which directed DOE to establish the Stockpile Stewardship Program. PDD-15 significantly redirected the nuclear weapons program. Throughout the Cold War, the Department of Defense (DOD) and DOE's nuclear weapons laboratories had based a portion of their confidence in the reliability of nuclear weapons on performance data from atmospheric and underground tests. To ensure weapons reliability during the moratorium on testing, DOE proposed to invest in new scientific tools to assess the complex phenomena involved in the detonation of nuclear weapons. DOE also began to develop sophisticated tools and computer-based simulation techniques to assess various aging phenomena as nuclear weapons continued to serve well beyond their originally anticipated lifetimes. These actions enhanced research and development (R&D) and deferred spending on the production complex.

DOE concluded in October 1994 that the alternatives described in the Reconfiguration PEIS no longer contained realistic proposals for reconfiguration of the nuclear weapons complex. That conclusion was based on several factors, including: comments offered at the September-October 1993 Reconfiguration PEIS scoping meetings; the anticipation that no production of new nuclear weapons types would be required for the foreseeable future; budget constraints; and the Department's decision to prepare a separate PEIS on Storage and Disposition of Weapons-Usable Fissile Materials (DOE/EIS-0229; NOI published June 21, 1994, 59 FR 17344).

Consequently, the Department separated the Reconfiguration PEIS into two new PEISs: (1) A Tritium Supply and Recycling PEIS (DOE/EIS-0161); and (2) the SSM PEIS (DOE/EIS-0236). The Final PEIS for Tritium Supply and Recycling was issued on October 27, 1995 (60 FR 55021). In its Record of Decision (ROD) on May 14, 1999 (64 FR 26369 ²), DOE decided it would produce the tritium needed to maintain the nuclear arsenal at commercial light water reactors owned and operated by the Tennessee Valley Authority and extract tritium at a new DOE-owned Tritium Extraction Facility at the Savannah River Site. With regard to the SSM PEIS, DOE issued an NOI on June 6, 1995 (60 FR 31291), a final SSM PEIS on November 19, 1996 (61 FR 58871), and a ROD on December 26, 1996 (61 FR 68014) announcing its decision to transform the weapons production complex by (1) reducing the weapon assembly capacity located at the Pantex Plant in Texas; (2) reducing the high-explosives fabrication capacity at Pantex; (3) reducing the uranium, secondary, and case fabrication capacity in the Y-12 National Security Complex in Tennessee; (4) reducing nonnuclear component fabrication capacity at the Kansas City Plant; and (5) reestablishing a modest interim pit fabrication capability at Los Alamos National Laboratory in New Mexico while evaluating the need for greater pit manufacturing capacity in the future.

² This ROD also contains decisions for the EIS for Construction and Operation of a Tritium Extraction Facility at the Savannah River Site (DOE/EIS-0271) and EIS for the Production of Tritium in a Commercial Light Water Reactor (DOE/EIS-0288).

In accordance with the decisions in the SSM PEIS, the Non-nuclear Consolidation Environmental Assessment (EA), and the Tritium Supply and Recycling PEIS, DOE began transforming the nuclear weapons complex to its present configuration. DOE has also prepared other EISs that facilitated the transformation of the complex. The relevant RODs for these site-wide and project-specific EISs are listed below:

• 1996 ROD for the EIS for the Nevada Test Site and Off-Site Locations in the State of Nevada (61 FR 65551, December 13, 1996).

• 1997 ROD for the EIS for the Continued Operation of the Pantex Plant and Associated Storage of Nuclear Weapon Components (62 FR 3880, January 27, 1997).

• 1999 ROD for the Site-wide EIS for Continued Operation of the Los Alamos National Laboratory (64 FR 50797, September 20, 1999).

• 1999 ROD for the EIS for Site-wide Operation of Sandia National Laboratories (64 FR 69996, December 15, 1999).

• 2000 Amended ROD for the Nevada Test Site EIS (65 FR 10061, February 25, 2000).

• 2002 ROD for the Site-wide EIS for the Oak Ridge Y-12 National Security Complex (67 FR 11296, March 13, 2002).

• 2002 ROD for the EIS for the Relocation of Technical Area 18 Capabilities and Materials at the Los Alamos National Laboratory (67 FR 79906, December 31, 2002).

• 2004 ROD for the EIS for the Chemistry and Metallurgy Research Building Replacement Project, Los Alamos National Laboratory (69 FR 6967, February 12, 2004).

• 2005 ROD for the Site-wide EIS for Continued Operation of Lawrence Livermore National Laboratory and Supplemental Stockpile Stewardship and Management Programmatic EIS (70 FR 71491, November 29, 2005).

Nuclear Weapons Complex: The current nuclear weapons complex consists of eight major facilities located in seven states. NNSA maintains a limited capability to design and manufacture nuclear weapons; provides surveillance of and maintains nuclear weapons currently in the stockpile; and dismantles retired nuclear weapons. Major facilities and their primary responsibilities within the nuclear weapons complex are listed below:

Savannah River Site (SRS) (Aiken, South Carolina)—Extracts tritium (when the Tritium Extraction Facility becomes operational in 2007); provides loading, unloading and surveillance of tritium reservoirs. SRS does not maintain Category I/II ³ quantities of special nuclear material (SNM) ⁴ associated with weapons activities, but does maintain Category I/II quantities of SNM associated with other Department activities (e.g., environmental management).

³ Category I/II quantities of special nuclear material are determined by grouping materials by type, attractiveness level, and quantity. These grouping parameters are defined in DOE Manual 470.4-6, Nuclear Material Control and Accountability [see https://www.directives.doe.gov].

⁴ As defined in section 11 of the Atomic Energy Act of 1954, special nuclear material are: (1) Plutonium, uranium enriched in the isotope 233 or in the isotope 235, and any other material which the U.S. Nuclear Regulatory Commission determines to be special nuclear material; or (2) any material artificially enriched by plutonium or uranium 233 or 235.

Pantex Plant (PX) (Amarillo, Texas)—Dismantles retired weapons; fabricates high-explosives components; assembles high explosive, nuclear, and non-nuclear components into nuclear weapons; repairs and modifies weapons; and evaluates and performs non-nuclear testing of weapons. Maintains Category I/II quantities of SNM for the weapons program and material no longer needed by the weapons program.

Y-12 National Security Complex (Y-12) (Oak Ridge, Tennessee)—Manufactures nuclear weapons secondaries, cases, and other weapons components; evaluates and performs testing of weapon components; maintains Category I/II quantities of SNM; conducts dismantlement, storage, and disposition of nuclear weapons materials; and supplies SNM for use in naval reactors.

Kansas City Plant (KCP) (Kansas City, Missouri)—Manufactures and acquires non-nuclear weapons components; and evaluates and performs testing of weapon components. No Category I/II quantities of SNM are maintained at the KCP.

Lawrence Livermore National Laboratory (LLNL) (Livermore, California)—Conducts research and development of nuclear weapons; designs and tests advanced technology concepts; designs weapons; maintains a limited capability to fabricate plutonium components; and provides safety and reliability assessments of the stockpile. Maintains Category I/II quantities of SNM associated with the weapons program and material no longer needed by the weapons program.

Los Alamos National Laboratory (LANL) (Los Alamos, New Mexico)—Conducts research and development of nuclear weapons; designs and tests advanced technology concepts; designs weapons; provides safety and reliability assessments of the stockpile; maintains interim production capabilities for limited quantities of plutonium components (e.g., pits); and manufactures nuclear weapon detonators for the stockpile. Maintains Category I/II quantities of SNM associated with the nuclear weapons program and material no longer needed by the weapons program.

Sandia National Laboratories (SNL) (Albuquerque, New Mexico; Livermore, California)—Conducts system engineering of nuclear weapons; designs and develops non-nuclear components; conducts field and laboratory non-nuclear testing; conducts research and development in support of the nuclear weapon non-nuclear design; manufactures non-nuclear weapon components; provides safety and reliability assessments of the stockpile; and manufactures neutron generators for the stockpile. Maintains Category I/II quantities of SNM associated with the nuclear weapons program.

Nevada Test Site (NTS) (Las Vegas, Nevada)—Maintains capability to conduct underground nuclear testing; conducts experiments involving nuclear material and high explosives; provides capability to disposition a damaged nuclear weapon or improvised nuclear device; conducts non-nuclear experiments; and conducts research and training on nuclear safeguards, criticality safety and emergency response. Maintains Category I/II quantities of SNM associated with the nuclear weapons program.

Purpose and Need for the Stockpile Stewardship and Management Program: Under the Atomic Energy Act of 1954 (42 U.S.C. 2011 et seq.), DOE is responsible for providing nuclear weapons to support the United States' national security strategy. The National Nuclear Security Administration Act (Pub. L. 106-65, Title XXXII) assigned this responsibility to NNSA within DOE. One of the primary missions of NNSA is to provide the nation with safe and reliable nuclear weapons, components and capabilities, and to accomplish this in a way that protects the environment and the health and safety of workers and the public.

Changes in national security needs and budgets have necessitated changes in the way NNSA meets its responsibilities regarding the nation's nuclear stockpile. As a result of a changed security environment, unilateral decisions by the United States and international arms control agreements, the nation's stockpile is significantly smaller today and by 2012, it will be the smallest since the Eisenhower administration (1953-1961). The Treaty of Moscow will eventually lead to a level of 1,700-2,200 operationally-deployed strategic nuclear weapons.

However, nuclear deterrence will continue to be a cornerstone of United States national security policy, and NNSA must continue to meet its responsibilities for ensuring the safety and reliability of the nation's nuclear weapons stockpile. The current policy is contained in the Nuclear Posture Review, submitted to Congress in early 2002, which states that the United States will:

• Change the size, composition and character of the nuclear weapons stockpile in a way that reflects that the Cold War is over;

• Achieve a credible deterrent with the lowest possible number of nuclear warheads consistent with national security needs, including obligations to allies; and

• Transform the NNSA nuclear weapons complex into a responsive infrastructure that supports the specific stockpile requirements established by the President and maintains the essential United States nuclear capabilities needed for an uncertain global future.

Complex 2030 SEIS: NNSA has been evaluating how to establish a more responsive nuclear weapons complex infrastructure since the Nuclear Posture Review was transmitted to Congress in early 2002. The Stockpile Stewardship Conference in 2003, the Department of Defense Strategic Capabilities Assessment in 2004, the recommendations of the Secretary of Energy Advisory Board (SEAB) Task Force on the Nuclear Weapons Complex Infrastructure in 2005, and the Defense Science Board Task Force on Nuclear Capabilities in 2006 have provided information for NNSA's evaluations.

In early 2006, NNSA developed a planning scenario for what the nuclear weapons complex would look like in 2030. See http://www.nnsa.doe.gov for more information regarding Complex 2030 planning. The Complex 2030 planning scenario incorporates many of the decisions NNSA has already made based on the evaluations in the SSM PEIS, Tritium Supply and Recycling PEIS, and other NEPA documents. See discussion in background above. The following table identifies which components of Complex 2030 are based on the existing SSM PEIS and Tritium PEIS RODs, including RODs for subsequent tiered EISs:

Components of Complex 2030 that reflect earlier decisions | SSM PEIS ROD | Tritium PEIS ROD
Maintain but reduce the existing weapon assembly capacity located at Pantex | X |
Maintain but reduce the high-explosives fabrication capacity at Pantex | X |
Maintain but reduce the existing uranium, secondary, and case fabrication capacity at the Y-12 Plant at Oak Ridge | X |
Reduce the non-nuclear component fabrication capacity at the Kansas City Plant | X |
Reestablish limited pit fabrication capability at Los Alamos National Laboratory while evaluating the need for a larger capability | X |
Irradiate tritium producing rods in commercial light water reactors; construct and operate a new Tritium Extraction Facility at DOE's Savannah River Site |  | X

Types of Decisions that Would Be Based on the Complex 2030 SEIS: The decisions set forth in the Complex 2030 ROD would:

• Identify the future missions of the SSM Program and the nuclear weapons complex; and

• Determine the configuration of the future weapons complex needed to accomplish the SSM Program.

For specific programs or facilities, NNSA may need to prepare additional NEPA documents to implement the decisions announced in the ROD. The baseline that will be used for the analyses of program and facility needs in the SEIS is 1,700-2,200 operationally-deployed strategic nuclear weapons, in addition to augmentation weapons, reliability-reserve weapons and weapons required to meet NATO commitments. The numbers are consistent with international arms-control agreements. Consistent with national security policy directives, replacement warhead design concepts may be pursued under the alternatives as a means of, for example, enhancing safety and security, improving manufacturing practices, reducing surveillance needs, and reducing need for underground tests.

The SEIS will evaluate reasonable alternatives for future transformation of the nuclear weapons complex. The Proposed Action and alternatives to the Proposed Action will assume continued implementation of the following prior siting decisions that DOE made in the SSM PEIS and Tritium PEIS RODs, including RODs for subsequent tiered EISs:

• Location of the weapon assembly/disassembly operations at the Pantex Plant in Texas.

• Location of uranium, secondary, and case fabrication at the Y-12 National Security Complex in Tennessee.

• Location of tritium extraction, loading and unloading, and support operations at the Savannah River Site in South Carolina.

NNSA does not believe it is necessary to identify additional alternatives beyond those present in the SSM PEIS. Regarding the uranium, secondary, and case fabrication at Y-12, NNSA is currently preparing a Y-12 Site-wide EIS to evaluate reasonable alternatives for the continued modernization of the Y-12 capabilities. The Complex 2030 SEIS will incorporate any decisions made pursuant to the Y-12 Site-wide EIS.

While the Complex 2030 planning scenario proposes to consolidate further non-nuclear production activities performed at the Kansas City Plant, this proposal will be evaluated in a separate NEPA analysis, as was done in the 1990s. NNSA believes that it is appropriate to separate the analyses of the transformation of non-nuclear production from the SEIS because decisions regarding those activities would neither significantly affect nor be affected by decisions regarding the transformation of nuclear production activities.

The SSM PEIS ROD announced NNSA's decision to establish a small interim pit production capacity at LANL. In the 1999 LANL Site-wide EIS ROD, NNSA announced it would achieve a pit production capacity at LANL of up to 20 pits per year. The 2006 draft LANL Site-wide EIS evaluates a proposal for a production capacity of 50 certified pits annually. This proposed capacity is based on an annual production rate of 80 pits per year in order to provide NNSA with sufficient flexibility to obtain 50 certified pits. Any decisions made pursuant to the LANL Site-wide EIS will be included in the Complex 2030 SEIS.

Based upon the studies ⁵ and analyses that led to NNSA's development of the Complex 2030 scenario, NNSA has developed alternatives that are intended to facilitate public comment on the scope of the SEIS. NNSA's decisions regarding implementation of Complex 2030 will be based on the following alternatives, or a combination of those alternatives.

⁵ The Stockpile Stewardship Conference in 2003, the Department of Defense Strategic Capabilities Assessment in 2004, the recommendations of the Secretary of Energy Advisory Board (SEAB) Task Force on the Nuclear Weapons Complex Infrastructure in 2005, and the recommendations of the Defense Science Board Task Force on Nuclear Capabilities in 2006.

The Proposed Action—Transform to a More Modern, Cost-Effective Nuclear Weapons Complex (Complex 2030). This alternative would undertake the following actions to continue the transformation of NNSA's nuclear weapons complex:

• Select a site to construct and operate a consolidated plutonium center for long-term R&D, surveillance, and manufacturing operations for a baseline capacity of 125 qualified pits per year at a site with existing Category I/II SNM.

• Reduce the number of sites with Category I/II SNM and consolidate SNM to fewer locations within each given site.

• Consolidate, relocate or eliminate duplicative facilities and programs and improve operating efficiencies, including at facilities for nuclear materials storage, tritium R&D, high explosives R&D, environmental testing, and hydrotesting facilities.

• Identify one or more sites for conducting NNSA flight test operations. Existing DOD and DOE test ranges (e.g., White Sands Missile Range in New Mexico and Nevada Test Site in Nevada) would be considered as alternatives to the continued operation of the Tonopah Test Range in Nevada.

• Accelerate dismantlement activities.

The DOE sites that will be considered as potential locations for the consolidated plutonium center and consolidation of Category I/II SNM include: Los Alamos, Nevada Test Site, Pantex Plant, Y-12 National Security Complex, and the Savannah River Site. Other DOE sites are not considered reasonable alternative locations because they do not satisfy certain criteria such as population encroachment, or mission compatibility or synergy with the site's existing mission.

Alternatives to the Proposed Action

No Action Alternative. The No Action Alternative represents the status quo as it exists today and is presently planned. It includes the continued implementation of decisions made pursuant to the SSM PEIS and the Tritium Supply and Recycling PEIS (as summarized above) and related site-specific EISs and EAs. These decisions are contained in RODs and Findings of No Significant Impact (FONSIs), including those discussed above, and copies can be located on the DOE NEPA Document Web page at http://www.eh.doe.gov/nepa/documents.html.

The No Action Alternative would also include any decisions made as a result of the new Y-12 Site-wide EIS and the LANL Site-wide EIS once these EISs are finished. NNSA expects to issue RODs on these EISs prior to publication of the draft Complex 2030 SEIS.

The No Action Alternative is illustrated in the following matrix:

Capability | Sites (no action alternative): KCP | Sites (no action alternative): LANL | Sites (no action alternative): LLNL | Sites (no action alternative): NTS | Sites (no action alternative): Y-12 | Sites (no action alternative): PX | Sites (no action alternative): SNL | Sites (no action alternative): SRS
Weapons assembly/Disassembly |  |  |  | X |  | X |  |
Nonnuclear components | X | X |  |  |  |  | X |
Nuclear components:
—Pits |  | X |  |  |  |  |  |
—Second­aries and cases |  |  |  |  | X |  |  |
High explosives components |  |  |  |  |  | X |  |
Tritium Extraction, Loading and Unloading |  |  |  |  |  |  |  | X
High explosives R&D |  | X | X |  |  | X | X |
Tritium R&D |  | X | X |  |  |  |  | X
Large Scale Hydrotesting |  | X | X | X |  |  |  |
Category I/II SNM Storage |  | X | X | X | X | X | X | X

The No Action Alternative also includes continuation of environmental testing at current locations and flight-testing activities at the Tonopah Test Range in Nevada.

Reduced Operations and Capability-Based Complex Alternative

In this alternative, NNSA would maintain a basic capability for manufacturing technologies for all stockpile weapons, as well as laboratory and experimental capabilities to support stockpile decisions, but would reduce production facilities to a “capability-based” ⁶ capacity. This alternative would not have a production capacity sufficient to meet current national security objectives. This alternative would be defined as follows:

⁶ The capability to manufacture and assemble nuclear weapons at a nominal level.

• Do not construct and operate a consolidated plutonium center for long-term R&D, surveillance, and manufacturing operations; and do not expand pit production at LANL beyond 50 certified pits per year.

• Reduce the number of sites with Category I/II SNM and consolidate SNM to fewer locations within a given site.

• Consolidate, relocate or eliminate duplicative facilities and programs and improve operating efficiencies, including at facilities for nuclear materials storage, tritium R&D, high explosives R&D, environmental testing facilities, and hydrotesting facilities.

• Identify one or more sites for conducting NNSA flight test operations. Existing DOD and DOE test ranges (e.g. White Sands Missile Range in New Mexico and Nevada Test Site in Nevada) would be considered as potential alternatives to the continued operation of the Tonopah Test Range in Nevada.

• Production capacities at Pantex, Y-12, and the Savannah River Site would be considered for further reductions limited by the capability-based capacity.

• NNSA would continue dismantlement activities.

Proposal Not Being Considered for Further Analysis. The SEAB Task Force on the Nuclear Weapons Complex Infrastructure recommended that NNSA pursue a consolidated nuclear production center (CNPC) as a single facility for all research, development, and production activities relating to nuclear weapons that involve significant amounts (i.e. Category I/II quantities) of SNM. The CNPC, as envisioned by the SEAB Task Force, would contain all the nuclear weapons manufacturing, production, assembly, and disassembly facilities and associated weapon surveillance and maintenance activities for the stockpile weapons. The CNPC would include the plutonium activities of the consolidated plutonium center proposed by NNSA in its Complex 2030 vision, as well as the consolidated activities of the uranium, tritium, and high explosive operations. DOE believes that creation of a CNPC is not a reasonable alternative and does not intend to analyze it as an alternative in the SEIS because of the technical and schedule issues involved in constructing a CNPC, as well as associated costs. NNSA invites and will consider comments on this matter during the scoping process.

The SEAB Task Force developed three business cases for transforming the nuclear weapons complex, two of which were characterized as high risk. Its preferred least-risk option was to establish a CNPC “quickly” by accelerating site selection, NEPA analyses, regulatory approvals, and construction. The Task Force assumed that NNSA could, under these circumstances, begin operating a CNPC in 2015, start consolidation of SNM shortly thereafter, accelerate dismantlements, and begin other major transformational activities. Until the CNPC was completed, NNSA would have to maintain, and in some cases improve, existing production and research facilities. According to the Task Force's estimates, this option would require an additional 1 billion dollars per year for weapons programs activities for the next 10 years, and lead to a net savings through 2030 of 15 billion dollars.

Accelerated construction of a CNPC would not allow NNSA to avoid immediate expenditures to restore and modernize interim production capabilities to meet essential Life Extension Program (LEP) schedules and support the existing stockpile during the next decade. LEP is the refurbishment of nuclear weapons parts and components to extend the weapon deployment life. NNSA has concluded that the SEAB Task Force underestimated the nonfinancial challenges of constructing a CNPC. A CNPC would require moving a unique and highly skilled workforce to a new location. It would require NNSA to obtain significant regulatory approvals rapidly, and to construct a unique and complex facility on a tight schedule. It would put many of the significant aspects of the weapons complex transformation into “one basket”—until the CNPC began operations, all the other facilities and activities would be delayed. NNSA's Proposed Action would achieve many of the benefits of the CNPC approach—consolidation of SNM and facilities, integrated R&D and production involving SNM, and aggressive dismantlements—in a way that addresses immediate national security needs in a technically feasible and affordable manner.

Nuclear Materials Consolidation: DOE is pursuing SNM consolidation from all DOE sites including those that comprise the nuclear weapons complex. The SEIS will look at alternatives for the storage and consolidation of nuclear materials within the nuclear weapons complex including materials needed to maintain the United States' nuclear weapons arsenal. There is a potential overlap between the SEIS and the activities of the Department's other nuclear materials consolidation activities, and DOE will ensure that there is appropriate coordination between the two activities.

Supplemental Programmatic Environmental Impact Statement on Stockpile Stewardship and Management for a Modern Pit Facility: NNSA issued a Draft Supplemental Programmatic Environmental Impact Statement on Stockpile Stewardship and Management for a Modern Pit Facility (MPF) on June 4, 2003 (68 FR 33487; also 68 FR 33934, June 6, 2003) that analyzed alternatives for producing the plutonium pits that are an essential component of nuclear weapons. On January 28, 2004, NNSA announced that it was indefinitely postponing any decision on how it would obtain a large capacity pit manufacturing facility. Because the Complex 2030 SEIS will analyze alternatives for plutonium-related activities that include pit production, DOE, effective upon publication of this NOI, cancels the MPF PEIS.

Public Scoping Process: The scoping process is an opportunity for the public to assist the NNSA in determining the issues for analysis. NNSA will hold public scoping meetings at locations identified in this NOI. The purpose of these meetings is to provide the public with an opportunity to present oral and written comments, ask questions, and discuss concerns regarding the transformation of the nuclear weapons complex and the SEIS with NNSA officials. Comments and recommendations can also be communicated to NNSA as discussed earlier in this notice.

Complex 2030 PEIS Supplement Preparation Process: The SEIS preparation process begins with the publication of this NOI in the Federal Register. NNSA will consider all public comments that it receives during the public comment period in preparing the draft SEIS. NNSA expects to issue the draft SEIS for public review during the summer of 2007. Public comments on the draft SEIS will be received during a comment period of at least 45 days following the U.S. Environmental Protection Agency's publication of the Notice of Availability in the Federal Register. Notices placed in local newspapers will specify dates and locations for public hearings on the draft SEIS and will establish a schedule for submitting comments on the draft SEIS, including a final date for submission of comments. Issuance of the final SEIS is scheduled for 2008.

Classified Material: NNSA will review classified material while preparing the SEIS. Within the limits of classification, NNSA will provide the public as much information as possible to assist its understanding and ability to comment. Any classified material needed to explain the purpose and need for the action, or the analyses in the SEIS, will be segregated into a classified appendix or supplement, which will not be available for public review. However, all unclassified information or results of calculations using classified data will be reported in the unclassified section of the SEIS, to the extent possible in accordance with federal classification requirements.

Issued in Washington, DC on October 11, 2006.
Linton F. Brooks,
Administrator, National Nuclear Security Administration.

[FR Doc. E6-17508 Filed 10-18-06; 8:45 am]

BILLING CODE 6450-01-P